DEPARTMENT OF COMMERCE

National Oceanic and Atmospheric Administration

RIN 0648-XA350

Endangered and Threatened Species; Take of Anadromous Fish

AGENCY: National Marine Fisheries Service (NMFS), National Oceanic and Atmospheric Administration (NOAA), Commerce.

ACTION: Notice; availability of fishery plans and request for comment.

SUMMARY: Notice is hereby given that the Idaho Department of Fish and Game (IDFG) has submitted a Fishery Management and Evaluation Plan (FMEP) pursuant to the protective regulations promulgated for salmon and steelhead listed under the Endangered Species Act (ESA). The FMEP specifies the future management of freshwater inland recreational fisheries potentially affecting listed salmon and steelhead in the State of Idaho. This document serves to notify the public of the availability of the FMEPs for review and comment before final approval or disapproval is made by NMFS.

DATES: Comments on the FMEPs must be received at the appropriate address or fax number (see ADDRESSES) no later than 5 p.m. Pacific time on May 16, 2011.

ADDRESSES: Written comments on the application should be addressed to the NMFS Salmon Management Division, 1201 NE. Lloyd Boulevard, Suite 1100, Portland, OR 97232, or faxed to 503-872-2737. Comments may be submitted by e-mail. The mailbox address for providing e-mail comments is IdahoFisheriesPlans.nwr@noaa.gov. Include in the subject line of the e-mail comment the following identifier: Comments on Idaho's FMEPs.

FOR FURTHER INFORMATION CONTACT: Brett Farman, Portland, OR, at phone number: (503) 231-6222, or e-mail: brett.farman@noaa.gov.

SUPPLEMENTARY INFORMATION:

Species Covered in This Notice

This notice is relevant to the Snake River Spring/summer Chinook Salmon (Oncorhynchus tshawytscha), Snake River Fall-run Chinook Salmon (O. tshawytscha), and Snake River Sockeye Salmon (O. nerka) evolutionarily significant units (ESU), and the Snake River Steelhead (O. mykiss) distinct population segment (DPS).

IDFG has submitted to NMFS two FMEPs describing design and implementation of State-managed fisheries targeting spring and summer Chinook salmon and general fisheries for non-listed resident species. The objective of the fishery management described in these two FMEPs is to harvest spring Chinook salmon and resident species in a manner that does not exceed the harvest impact limits developed by State, Tribal, and Federal co-managers consistent with conservation needs of the listed species. Implementation of the FMEPs would assure that spawning escapements, hatchery brood stock requirements, and supplemental adult releases would be achieved in accordance with cooperative agreements. A variety of monitoring and evaluation tasks are specified in the FMEPs to assess the abundance of listed species, determine fishery effort and catch, and monitor angler compliance. A review of compliance within the provisions of the FMEP will be conducted by IDFG annually, and a comprehensive review of each FMEP would be required every five years. Each year's upcoming recreational fishery management intentions will be required to get NMFS concurrence beforehand to ensure compliance with the proposed FMEP.

As specified in the July 10, 2000, Endangered Species Act (ESA) 4(d) rule for salmon and steelhead (65 FR 42422) and updated June 28, 2005 (70 FR 37160), NMFS may approve an FMEP if it meets criteria set forth in 50 CFR 223.203(b)(4)(i)(A) through (I). Prior to final approval of an FMEP, NMFS must publish notification announcing its availability for public review and comment.

Authority

Under section 4 of the ESA, the Secretary of Commerce is required to adopt such regulations as he deems necessary and advisable for the conservation of species listed as threatened. The ESA salmon and steelhead 4(d) rule (65 FR 42422, July 10, 2000, as updated in 70 FR 37160, July 28, 2005) specifies categories of activities that contribute to the conservation of listed salmonids and sets out the criteria for such activities. The rule further provides that the prohibitions of paragraph (a) of the rule do not apply to activities associated with fishery harvest provided that an FMEP has been approved by NMFS to be in accordance with the salmon and steelhead 4(d) rule (65 FR 42422, July 10, 2000, as updated in 70 FR 37160, July 28, 2005).

Dated: April 7, 2011.
Angela Somma,
Chief, Endangered Species Division, Office of Protected Resources, National Marine Fisheries Service.

[FR Doc. 2011-9017 Filed 4-13-11; 8:45 am]

BILLING CODE 3510-22-P